DEPARTMENT OF THE INTERIOR

Bureau of Land Management

[19X.LLIDI02000.L71220000.FR0000.LVTFD1915100.241A.4500131504]

Notice of Availability for the Draft Environmental Impact Statement for the Proposed Blackrock Land Exchange, Bannock and Power Counties, Idaho

AGENCY: Bureau of Land Management, Interior.

ACTION: Notice of availability.

SUMMARY: In compliance with the National Environmental Policy Act of 1969 (NEPA), as amended, and the Federal Land Policy and Management Act of 1976 (FLPMA), as amended, the Bureau of Land Management (BLM) Pocatello Field Office, in Pocatello, Idaho, has prepared a Draft Environmental Impact Statement (EIS) for the proposed Blackrock Land Exchange. By this notice, the BLM is announcing the beginning of the 45-day public comment period for the Draft EIS.

DATES: In order to have comments considered for inclusion in the Final EIS, the BLM must receive comments on the Draft EIS by February 3, 2020, or 45 days following the date that the Environmental Protection Agency publishes its Notice of Availability in the Federal Register, whichever is greater.

The date(s) and location(s) of public meetings are:

• January 7, 2020 from 4-6 p.m. at the Shoshone-Bannock Hotel and Event Center, 777 Bannock Trail Avenue, Fort Hall, Idaho

• January 8, 2020 from 5-7 p.m. at the BLM Pocatello Field Office, 4350 Cliffs Drive, Pocatello, Idaho

ADDRESSES: You may submit comments related to the proposed Blackrock Land Exchange only by the following methods:

• Website: https://go.usa.gov/xEUuc.

• Fax: 208.478.6376.

• Mail: BLM, Pocatello Field Office, Attention: Blackrock Land Exchange, 4350 S Cliffs Dr., Pocatello, ID 83204.

A copy of the Draft EIS is available at the BLM's ePlanning website: https://go.usa.gov/xEUuc. A hard copy of the document can be reviewed at the BLM Pocatello Field Office, at the address listed above.

FOR FURTHER INFORMATION CONTACT: Bryce Anderson, Project Manager, by telephone: 208-478-6353; address: 4350 S Cliffs Dr., Pocatello, ID 83204; or email: bdanderson@blm.gov. People who use a telecommunications device for the deaf (TDD) may call the Federal Relay Service (FRS) at 1-800-877-8339 to contact Mr. Anderson. The FRS is available 24 hours a day, 7 days a week, to leave a message or question with Mr. Anderson. You will receive a reply during normal business hours.

SUPPLEMENTARY INFORMATION: The BLM is the lead agency for the proposed land exchange. The Idaho Department of Environmental Quality (IDEQ), Idaho Governor's Office of Energy and Mineral Resources (OEMR), U.S. Environmental Protection Agency (EPA), and Department of Interior Bureau of Indian Affairs (BIA) are Cooperating Agencies.

In 1994, the J.R. Simplot Company (Simplot) submitted an application to acquire 719 acres of Federal land managed by the BLM in exchange for 667 acres of non-Federal land. The Federal lands are adjacent to Simplot's Don Plant in Power and Bannock Counties, Idaho. The non-Federal lands are located in the Blackrock and Caddy Canyon areas in Bannock County approximately 5 miles east-southeast of Pocatello.

In 1998, pursuant to the Comprehensive Environmental Response Compensation and Liability Act, the Don Plant facilities and the surrounding area, known as the Eastern Michaud Flats (EMF), were designated as a Superfund Site, including a portion of the proposed Federal lands to be exchanged. The BLM prepared an Environmental Assessment (EA) to analyze the proposed land exchange and issued a Decision Record/Finding of No Significant Impact (DR/FONSI) on December 21, 2007. The Shoshone-Bannock Tribes litigated the decision in District Court. In May 2011, the Court granted the tribes' motion and remanded the DR/FONSI to the BLM, ordering the agency to prepare an EIS.

The BLM's purpose is to evaluate the land exchange proposal. If approved, the proposal would improve resource management in an area containing crucial mule deer winter range and secure permanent public access within a popular recreation area. The BLM's need is to respond to the proposal pursuant to FLPMA. Simplot's purpose for the proposed land exchange is to implement legally enforceable controls as directed by the EPA and IDEQ. To meet fluoride reduction requirements from a 2016 Consent Order with the IDEQ, Simplot has proposed construction of cooling ponds adjacent to the Don Plant, which would require the acquisition of adjacent Federal lands. Additionally, this acquisition would allow Simplot to maximize the operational life of its ongoing phosphate processing operations at the Don Plant by expanding gypsum stacks onto adjacent land.

A Notice of Intent to prepare this EIS was published in the Federal Register on May 20, 2019 (84 FR 22893), initiating a 45-day public scoping period during which the BLM accepted comments on the proposed land exchange. Key resource issues identified during scoping include: Air quality, cultural resources, fish and wildlife, hazardous and solid wastes, lands and realty, recreation, socioeconomics, environmental justice, tribal treaty rights, visual resources, and water resources. Based on feedback from Cooperating Agencies, stakeholders, and public scoping, the BLM has developed alternatives to the Proposed Action, including a No Action Alternative, which are detailed in the Draft EIS.

The BLM will fulfill the public involvement requirements under the National Historic Preservation Act (NHPA) (54 U.S.C. 306108) as provided in 36 CFR 800.2(d)(3) through the NEPA process. Information the BLM receives about historic and cultural resources within the area potentially affected by the proposed action will assist the BLM in identifying and evaluating impacts to such resources in the context of both NEPA and Section 106 of the NHPA.

The BLM will continue consulting with Native American tribes on a government-to-government basis in accordance with Executive Order 13175 and other policies. The BLM will give tribal concerns due consideration, including impacts on Native American trust assets and potential impacts to cultural resources.

Before including your address, phone number, email address, or other personal identifying information in your comment, you should be aware that your entire comment—including your personal identifying information—may be made publicly available at any time. In your comment, you can ask to have your personal identifying information withheld from public review, but the BLM cannot guarantee that it will be able to do so.

(Authority: 40 CFR 1506.6, 40 CFR 1506.10)

John F. Ruhs,
BLM Idaho State Director.

[FR Doc. 2019-27286 Filed 12-19-19; 8:45 am]

BILLING CODE 4310-GG-P